DEPARTMENT OF COMMERCE

National Oceanic and Atmospheric Administration

[I.D. 041000B]

Availability of a Draft Environmental Assessment/Finding of No Significant Impact and Receipt of an Application for an Incidental Take Permit (1233)

AGENCY: National Marine Fisheries Service (NMFS), National Oceanic and Atmospheric Administration, Commerce.

ACTION: Notice of availability.

SUMMARY: NMFS has received an application for an incidental take permit (Permit) from the Idaho Department of Fish and Game (IDFG) according to the Endangered Species Act of 1973, as amended (ESA). As required by the ESA, IDFG has also prepared a conservation plan (Plan) designed to minimize and mitigate any such take of endangered or threatened species. The Permit application is for the incidental take of ESA-listed adult and juvenile salmonids associated with otherwise lawful recreational fisheries on non-listed species in the Snake River and its tributaries in the State of Idaho. The duration of the proposed Permit and Plan is five years. The Permit application includes the proposed Plan submitted by IDFG. NMFS also announces the availability of a draft Environmental Assessment (EA) for the Permit application. NMFS is furnishing this notice in order to allow other agencies and the public an opportunity to review and comment on these documents. All comments received will become part of the public record and will be available for review pursuant to the ESA.

DATES: Written comments from interested parties on the Permit application, Plan, and draft EA must be received at the appropriate address or fax number (see ADDRESSES) no later than 5 p.m. Pacific daylight time on May 19, 2000.

ADDRESSES: Written comments on the application, Plan, or draft EA should be sent to Herbert Pollard, Sustainable Fisheries Division, NWR2, 525 NE Oregon Street, Suite 510, Portland, OR 97232-2737. Comments may also be sent via fax to (208) 378-5699. Comments will not be accepted if submitted via e-mail or the internet. Requests for copies of the Permit application, Plan, and draft EA should be directed to the Sustainable Fisheries Division (H/IF Br.), NWR2, 525 NE Oregon Street, Suite 510, Portland, OR 97232-2737. Comments received will also be available for public inspection, by appointment, during normal business hours by calling (208) 378-5614.

FOR FURTHER INFORMATION CONTACT: Herbert Pollard, Portland, OR (ph.: (208) 378-5614, fax: (208) 378-5699, e-mail: Herbert.Pollard@noaa.gov)

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in This Notice

The following species, evolutionarily significant units (ESU's), and runs are included in the Plan and Permit application:

Chinook salmon (Oncorhynchus tshawytscha): threatened naturally produced and artificially propagated Snake River (SnR) spring/summer, threatened SnR fall.

Sockeye salmon (O. nerka): endangered SnR.

Steelhead (O. mykiss): threatened SnR.

To date, final protective regulations for threatened SnR steelhead under section 4(d) of the ESA have not been promulgated by NMFS. Protective regulations are currently proposed for threatened SnR Steelhead (64 FR 73479, December 30, 1999. This notice of receipt of an application requesting take of this species is issued as a precaution in the event that NMFS issues final protective regulations that prohibit take of threatened SnR steelhead. The initiation of a 30-day public comment period on the application, including its proposed takes of threatened SnR steelhead does not presuppose the contents of the eventual final protective regulations.

Background

From 1993 through 1998 recreational fisheries managed by IDFG were conducted under the terms of a section 10 (a)(1)(B) permit (844) issued by NMFS on May 20, 1993. On May 26, 1999, permit 844 was replaced with permit 1150 for continued conduct of the same activities. Permit 1150 was issued for only 7 months and expired on December 31, 1999. IDFG has applied for a 5-year ESA section 10(a)(1)(B) permit (1233) for incidental takes of ESA-listed adult and juvenile salmonids associated with recreational fisheries during 2000 through 2004 on non-listed species in the Snake River and its tributaries in the State of Idaho.

Conservation Plan

The Conservation Plan prepared by IDFG describes measures designed to monitor, minimize, and mitigate the incidental takes of ESA-listed anadromous salmonids associated with some or all of the following fisheries which are expected to occur during 2000 through 2004:

Resident Fish Species Sport Fishing - General Fishing Regulations

The general statewide stream season in Idaho runs from Saturday of the Memorial Day weekend through November 30. Exceptions to the general stream season include certain river sections that are open year-round and rivers or stream sections that are closed to all fishing for all or part of the general stream season. Most lakes, ponds and reservoirs are open to fishing the entire year, with exceptions to protect particular resources.

Anadromous Salmon Sport Fishing - Anadromous Salmon Fishing Regulations

Fisheries for spring/summer chinook salmon, when returns allow, typically occur from mid-May up to August 4. Closing salmon fishing on or before August 4 is designed to protect listed fall chinook. Chinook fisheries are based on quotas of non-listed components and take limits of ESA-listed components of the run. Chinook fisheries may be closed on short notice when in-season monitoring indicates that criteria are met.

Spring and Fall Steelhead Sport Fishing - Steelhead Fishing Regulations

The steelhead harvest season lasts from September 1 through April 30, except steelhead may not be harvested until October 15 on the Clearwater River and the mainstem Salmon River fishery closes on March 31. The Little Salmon River is the only Salmon River tributary open to harvest of steelhead. Only non-listed, hatchery-produced steelhead that have been marked by a clipped adipose fin may legally be harvested by anglers.

Incidental mortalities of ESA-listed fish associated with the IDFG recreational fishery programs are requested at levels specified in the Permit application. IDFG is proposing to limit state recreational fisheries such that the incidental impacts on ESA-listed salmonids will be minimized. Three alternatives for the IDFG fisheries were provided in the Plan, including: (1) the no action alternative; (2) the proposed conservation plan alternative (based on continuing fisheries at levels similar to those permitted since 1995); and (3) historic fishing levels.

Environmental Assessment/Finding of No Significant Impact

The EA package includes a draft EA and a draft Finding of No Significant Impact (FONSI) which concludes that issuing the incidental take permit is not a major Federal action significantly affecting the quality of the human environment, within the meaning of section 102(2)(C) of the National Environmental Policy Act (NEPA) of 1969, as amended. Three Federal action alternatives have been analyzed in the EA, including: (1) the no action alternative; (2) issue a permit without conditions; and (3) issue a permit with conditions.

This notice is provided pursuant to section 10(c) of the ESA and the NEPA regulations (40 CFR 1506.6). NMFS will evaluate the application, associated documents, and comments submitted thereon to determine whether the application meets the requirements of the NEPA regulations and section 10(a) of the ESA. If it is determined that the requirements are met, a permit will be issued for incidental takes of ESA-listed anadromous salmonids under the jurisdiction of NMFS. The final NEPA and permit determinations will not be completed until after the end of the 30-day comment period and will fully consider all public comments received during the comment period. NMFS will publish a record of its final action in the Federal Register.

Dated: April 13, 2000.
Craig Johnson,
Acting Chief, Endangered Species Division, Office of Protected Resources, National Marine Fisheries Service.

[FR Doc. 00-9841 Filed 4-18-00; 8:45 am]

BILLING CODE 3510-22-F